Title 3—

The President

Memorandum of June 4, 2018

Delegation of Authority Under Section 709 of the Department of State Authorities Act, Fiscal Year 2017

Memorandum for the Secretary of State

By the authority vested in me as President by the Constitution and the laws of the United States of America, I hereby delegate to the Secretary of State the authority to submit, in consultation with the Secretary of the Treasury, the Attorney General, and the Director of National Intelligence, the report required under section 709 of the Department of State Authorities Act, Fiscal Year 2017 (Public Law 114-323) (the “Act”), as amended.

The delegation in this memorandum shall apply to any provision of any future public law that is the same or substantially the same as section 709 of the Act.

You are authorized and directed to publish this memorandum in the Federal Register.

THE WHITE HOUSE,

Washington, June 4, 2018

[FR Doc. 2018-14485

Filed 7-2-18; 11:15 am]

Billing code 4710-10-P